DEPARTMENT OF ENERGY

Federal Energy Regulatory Commission

[Docket No. RP02-319-001]

National Fuel Gas Supply Corporation; Notice of Compliance Filing

July 17, 2002.

Take notice that on July 10, 2002 National Fuel Gas Supply Corporation (National Fuel) tendered for filing as part of its FERC Gas Tariff, Fourth Revised Volume No. 1, Sub. Third Revised Sheet No. 357, to be effective July 1, 2002.

National Fuel states that this filing is being made in compliance with the Commission's Letter Order issued on June 27, 2002, in the above-referenced docket. National Fuel further states that the revised tariff language clarifies the Intra-Day nomination periods in Section 10.2 of its General Terms and Conditions.

National Fuel states that copies of this filing were served upon its customers, interested state commissions and the parties on the official service list compiled by the Secretary in this proceeding.

Any person desiring to protest said filing should file a protest with the Federal Energy Regulatory Commission, 888 First Street, NE., Washington, DC 20426, in accordance with Section 385.211 of the Commission's Rules and Regulations. All such protests must be filed on or before July 24, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18549 Filed 7-22-02; 8:45 am]

BILLING CODE 6717-01-P